DEPARTMENT OF HEALTH AND HUMAN SERVICES

Administration for Children and Families

Grant to Child Trends

AGENCY: Family and Youth Services Bureau, Administration on Children, Youth and Families, ACF, DHHS

ACTION: Notice of award.

Catalog of Federal Domestic Assistance: #93.550.

SUMMARY: Notice is hereby given that a noncompetive grant award is being made to Child Trends, Inc., to support their efforts in the development of positive outcome measures for children and youth.

This one year project is being funded non-competitively because it is expected to provide immediate and useful information and guidance to this Department and other practitioners regarding positive outcome measures for early intervention programs, government indicator monitoring efforts and longitudinal research on healthy youth development. The field of youth services and policy is in significant need of consensus and clarity on ways of measuring positive inputs and outcomes, including definitions, valid data sources, methodological issues, etc. This is true particularly in areas impacting the population of youth in at-risk situations served by the Family and Youth Services Bureau.

This project will solicit and compile expert input from a variety of fields which affect young people, such as services to runaway and homeless youth, other social services, health, labor force preparation, juvenile justice and the like. Through a wide-ranging call for papers, a review of existing constructs, multidisciplinary consultations and scholarly analysis, the project will build a body of information and thinking which will then become the focus of a national conference of experts hosted by the National Institutes of Health.

One purpose of the conference will be to build consensus on a body of valid, logical, and practical indicators that reflect assets, strengths, and constructive experiences of youth, with particular emphasis on youth in at-risk situations such as being homeless or a runaway. An important focus is to relate these assets and factors to healthy outcomes among youth as they mature into adulthood. Interdisciplinary considerations are expected; for example, an evaluation of knowledge regarding the impact of outcomes in one field, such as education, upon outcomes in another area, such as health. Findings and recommendations of the conference will be disseminated through a variety of means.

The project builds upon Child Trends' depth of expertise and experience, including notable accomplishments in the field of analyzing and evaluating policy effects upon children and youth, particularly those in at risk situations. During the 1990's, Child Trends played a key role in a major study sponsored by the Department of Health and Human Services on the effects of mandatory welfare-to-work programs on children, youth and families placed at risk during the transition from AFDC to TANF. It should be noted that many runaway and homeless youth and those at risk for running away, come from economically stressed families and settings.

Child Trends' widely-recognized reputation, extensive efforts and longstanding leadership in the area of child and youth well-being indicator development will generate significant expert attention and ensure participation in the culminating conference in Spring 2003. The grantee will be awarded $100,000 for use during the project period, beginning September 30, 2002 and ending September 29, 2003.

Authority: This award will be made pursuant to 42 U.S.C. 5714-23(a) (section 343 (a) of the Runaway and Homeless Youth Act of 1999, as amended by Pub. L. 106-71), CFDA#93.550.

FOR FURTHER INFORMATION CONTACT: Deborah Yatsko, Administration on Children, Youth and Families, Family and Youth Services Bureau, 330 C Street SW, Room 2326, Washington, DC 20204, Phone: 202.690.7843.

Dated: September 23, 2002.
Joan E. Ohl,
Commissioner, Administration on Children, Youth and Families.

[FR Doc. 02-24660 Filed 9-26-02; 8:45 am]

BILLING CODE 4184-01-M